DEPARTMENT OF ENERGY

Bonneville Power Administration

Agency Information Collection Activities: Proposed Collection; Comment Request; Environmental Vendor Survey

AGENCY: Bonneville Power Administration (BPA), DOE.

ACTION: 60-Day notice of submission of information collection approval from the Office of Management and Budget (OMB) and request for comments.

SUMMARY: BPA is submitting to OMB for clearance, a proposal for collection of information under the provisions of the Paperwork Reduction Act of 1995. The proposed collection will allow BPA to gather information from potential vendors on the environmental services and capabilities they can provide to support activities ensuring environmental compliance for BPA programs and projects in fulfillment of its commitment to stewardship of the Northwest region's natural and cultural resources. The services and capabilities information will help BPA in identifying contracting opportunities for those vendors with the services, skills and capabilities necessary to assist BPA in implementing environmental analysis and documentation in compliance with federal environmental laws.

DATES: Comments must be submitted by May 23, 2014.

ADDRESSES: Written comments may be submitted to: DOE Desk Officer, Office of Information and Regulatory Affairs, Office of Management and Budget, New Executive Office Building, Room 10102, 735 17th Street NW., Washington, DC 20503.

FOR FURTHER INFORMATION CONTACT: To request additional information: Information Collection Clearance Officer, Christopher M. Frost, Governance and Internal Controls, DGC-7, Bonneville Power Administration, 905 NE. 11th Avenue, Portland, Oregon 97232.

SUPPLEMENTARY INFORMATION: This information collection request contains:

(1) OMB Number: New.

(2) Information Collection Request Title: Environmental Vendor Survey.

(3) Type of Request: New.

(4) Abstract: The vendor survey collection will be used to gather information including services provided, experience, capabilities and location from vendors for the purpose of future contracting opportunities.

Below we provide the BPA projected average estimates for the next three years:

Affected Public: Businesses and Organizations.

Annual Estimated Number of Respondents: 100.

Annual Estimated Number of Total Responses: 100.

Average Minutes per Response: 15.

Annual Estimated Number of Burden Hours: 25.

Annual Estimated Reporting and Recordkeeping Cost Burden: $0.

An agency may not conduct or sponsor, and a person is not required to respond to, a collection of information unless it displays a currently valid Office of Management and Budget control number.

Issued in Portland, Oregon, on March 17, 2014.
Damian J. Kelly,
Acting Chief Compliance Officer, Agency Governance and Compliance.

[FR Doc. 2014-06355 Filed 3-21-14; 8:45 am]

BILLING CODE 6450-01-P